ENVIRONMENTAL PROTECTION AGENCY

40 CFR Part 52

[EPA-R09-OAR-2012-0959; FRL-9948-11-Region 9]

Revisions to the California State Implementation Plan, Sacramento Metropolitan Air Quality Management District

AGENCY: Environmental Protection Agency (EPA).

ACTION: Final rule.

SUMMARY: The Environmental Protection Agency (EPA) is finalizing a partial approval and partial disapproval of revisions to the Sacramento Metropolitan Air Quality Management District (SMAQMD or District) portion of the California State Implementation Plan (SIP). This action was proposed in the Federal Register on January 15, 2016 and concerns the District's demonstration regarding Reasonably Available Control Technology (RACT) requirements for the 1997 8-hour ozone National Ambient Air Quality Standard (NAAQS). Under authority of the Clean Air Act (CAA or the Act), this action directs California to correct RACT deficiencies in the SMAQMD portion of the California SIP.

DATES: This rule is effective on September 30, 2016.

ADDRESSES: The EPA has established docket number ¹ EPA-R09-OAR-2012-0959 for this action. Generally, documents in the docket for this action are available electronically at www.regulations.gov or in hard copy at EPA Region IX, 75 Hawthorne Street, San Francisco, California 94015-3901. While all documents in the docket are listed at www.regulations.gov, some information may be publicly available only at the hard copy location (e.g., copyrighted material, large maps), and some may not be publicly available in either location (e.g., Confidential Business Information (CBI)). To inspect the hard copy materials, please schedule an appointment during normal business hours with the contact listed in the FOR FURTHER INFORMATION CONTACT section.

¹ Our proposal indicated that the docket number for this action was EPA-R09-2012-959. This final action corrects the docket number to “0959” to conform to numbering convention.

FOR FURTHER INFORMATION CONTACT: James Shears, EPA Region IX, (213) 244-1810, shears.james@epa.gov.

SUPPLEMENTARY INFORMATION: Throughout this document, “we,” “us” and “our” refer to the EPA.

Table of Contents

I. Proposed Action

II. Public Comments and EPA Responses

III. Final Action and CAA Consequences

IV. Statutory and Executive Order Reviews

I. Proposed Action

On January 15, 2016 (81 FR 2136), the EPA proposed to partially approve and partially disapprove the following documents that were submitted for incorporation into the California SIP:

Local agency | Document | Adopted | Submitted
SMAQMD | Reasonably Available Control Technology (RACT) as Applicable to the 8-hour Ozone Standard, dated October 26, 2006 (“2006 RACT SIP”) | 10/26/06 | 7/11/07
SMAQMD | Reasonably Available Control Technology (RACT) Update as Applicable to the 8-Hour Ozone Standard, dated October 23, 2008 (“Updated RACT SIP”) | 10/23/08 | 1/21/09

We proposed to approve the 2006 RACT SIP and Updated RACT SIP with the exception of Rule 455, Pharmaceutical Manufacturing, and the municipal waste landfill category as satisfying the RACT requirements of CAA section 182(b)(2) and (f).

Also under CAA section 110(k)(3), we proposed to disapprove those elements of the 2006 RACT SIP and Updated RACT SIP that pertain to Rule 455 and the municipal waste landfill category because we found that these elements did not meet all of the applicable CAA requirements. In particular, we found that Rule 455, Pharmaceuticals Manufacturing, (amended 11/29/83 and 9/5/96) lacks test methods, recordkeeping, and monitoring requirements that are necessary to support enforcement of the rule. See CAA section 110(a). We also found that the California SIP did not contain any provisions to implement RACT for volatile organic compounds (VOCs) at the Kiefer landfill, which is a major source of VOCs located within the Sacramento Metro area.

SMAQMD's submittal also included a number of negative declarations. CAA Sections 182(b)(2) and (f) require that SIPs for ozone nonattainment areas classified as moderate or above implement RACT for any source covered by a Control Techniques Guidelines (CTG) document and any major stationary source of VOCs or nitrogen oxides (NOX). If an ozone nonattainment area does not have any stationary sources covered by a particular CTG, then the area may submit a negative declaration certifying that there are no such sources in the relevant nonattainment area in lieu of adopting RACT requirements for that category. We proposed approval of SMAQMD's negative declarations because we determined that they complied with relevant CAA requirements.

Our proposed action contains more information on the basis for this rulemaking and on our evaluation of the 2006 RACT SIP and Updated RACT SIP.

II. Public Comments and EPA Responses

The EPA's proposed action provided a 30-day public comment period. During this period, we received no comments.

III. Final Action and CAA Consequences

A. Final Action

For the reasons provided in our January 15, 2016 proposed rule, the EPA is partially approving and partially disapproving SMAQMD's 2006 RACT SIP and Updated RACT SIP under CAA section 110(k)(3). In particular, we are approving all elements of the 2006 RACT SIP and Updated RACT SIP, with the exception of elements pertaining to Rule 455, Pharmaceutical Manufacturing, and the municipal waste landfill category, as satisfying the RACT requirements of CAA section 182(b)(2) and (f). We are disapproving those elements of the 2006 RACT SIP and Updated RACT SIP that pertain to Rule 455 and the municipal waste landfill category because we have determined that they do not meet all of the applicable CAA requirements.

B. CAA Consequences of Final Partial Disapproval

The EPA is committed to working with the District and CARB to resolve the identified RACT deficiencies. We note that SMAQMD will not be required to submit a revised CAA section 182 RACT SIP demonstration for the 1997 8-hour ozone NAAQS if it submits for SIP approval, rules and/or permit provisions that implement RACT for the pharmaceutical manufacturing source category, as well as RACT for VOCs for the Kiefer landfill, and the EPA fully approves them into the SIP. On April 28, 2016, SMAQMD repealed Rule 455 and adopted amendments to Rule 464, Organic Chemical Manufacturing Operations to incorporate the pharmaceutical manufacturing requirements from Rule 455 along with other improvements to implement RACT into Rule 464. SMAQMD plans, in July 2016, to adopt the relevant portions of the Kiefer landfill permit into the SIP to implement RACT.

Because we are finalizing a partial disapproval of the 2006 RACT SIP and Updated RACT SIP, the EPA must promulgate a federal implementation plan (FIP) under section 110(c) unless we approve subsequent SIP revisions that correct the rule deficiencies within 24 months of the effective date of this action. In addition, sanctions will be imposed under CAA section 179 and 40 CFR 52.31, unless the EPA approves subsequent SIP revisions that correct the rule deficiencies or issues an interim final determination that submitted revisions correct the deficiencies within 18 months of the effective date of this action.

IV. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review.

B. Paperwork Reduction Act (PRA)

This action does not impose an information collection burden under the PRA because this action does not impose additional requirements beyond those imposed by state law.

C. Regulatory Flexibility Act (RFA)

I certify that this action will not have a significant economic impact on a substantial number of small entities under the RFA. This action will not impose any requirements on small entities beyond those imposed by state law.

D. Unfunded Mandates Reform Act (UMRA)

This action does not contain any unfunded mandate as described in UMRA, 2 U.S.C. 1531-1538, and does not significantly or uniquely affect small governments. This action does not impose additional requirements beyond those imposed by state law. Accordingly, no additional costs to State, local, or tribal governments, or to the private sector, will result from this action.

E. Executive Order 13132: Federalism

This action does not have federalism implications. It will not have substantial direct effects on the states, on the relationship between the national government and the states, or on the distribution of power and responsibilities among the various levels of government.

F. Executive Order 13175: Coordination With Indian Tribal Governments

This action does not have tribal implications, as specified in Executive Order 13175, because the SIP is not approved to apply on any Indian reservation land or in any other area where the EPA or an Indian tribe has demonstrated that a tribe has jurisdiction, and will not impose substantial direct costs on tribal governments or preempt tribal law. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not impose additional requirements beyond those imposed by state law.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Population

The EPA lacks the discretionary authority to address environmental justice in this rulemaking.

K. Congressional Review Act (CRA)

This action is subject to the CRA, and the EPA will submit a rule report to each House of the Congress and to the Comptroller General of the United States. This action is not a “major rule” as defined by 5 U.S.C. 804(2).

L. Petitions for Judicial Review

Under CAA section 307(b)(1), petitions for judicial review of this action must be filed in the United States Court of Appeals for the appropriate circuit by October 11, 2016. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen dioxide, Ozone, Reporting and recordkeeping requirements, Volatile organic compounds.

Dated: May 19, 2016.
Alexis Strauss,
Acting Regional Administrator, Region IX.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.220 is amended by adding paragraphs (c)(382)(ii)(C) and (c)(475) to read as follows:

§ 52.220 Identification of plan—in part.

* * * * *

(c) * * *

(382) * * *

(ii) * * *

(C) Sacramento Metropolitan Air Quality Management District.

(1) Reasonably Available Control Technology (RACT) as Applicable to the 8-Hour Ozone Standard, dated October 26, 2006, as adopted October 26, 2006, excluding the RACT determinations for:

(i) Pharmaceutical Products Manufacturing Source Category; and

(ii) Kiefer Landfill (RACT for volatile organic compounds).

* * * * *

(475) A new plan for the following AQMD was submitted January 21, 2009 by the Governor's designee.

(i) [Reserved]

(ii) Additional Material.

(A) Sacramento Metropolitan Air Quality Management District.

(1) Reasonably Available Control Technology (RACT) Update as Applicable to the 8-Hour Ozone Standard, dated October 23, 2008, adopted October 23, 2008.

* * * * *

3. Section 52.222 is amended by adding paragraph (a)(2)(iv) to read as follows:

§ 52.222 Negative declarations.

(a) * * *

(2) * * *

(iv) Negative declarations for Sacramento Metropolitan Air Quality Management District.

CTG Source category | Negative declaration—CTG reference document | Submitted 7/11/07, adopted 10/26/06 | Updated submitted 1/21/09, adopted 10/23/08
Aerospace Coating | EPA-453/R-97-004 and 59 FR 29216 (6/06/94)—Control of Volatile Organic Compound Emissions from Coating Operations at Aerospace Manufacturing and Rework Operations |  | X
Automobile Coating | EPA-450/2-77-008—Control of Volatile Organic Emissions from Existing Stationary Sources, Volume II: Surface Coating of Cans, Coils, Paper, Fabrics, Automobiles, and Light-Duty Trucks | X |
Dry Cleaning (Petroleum Solvent) | EPA-450/3-82-009—Control of Volatile Organic Compound Emissions from Large Petroleum Dry Cleaners | X |
Graphic Arts (Rotogravure) | EPA-450/2-78-033—Control of Volatile Organic Emissions from Existing Stationary Sources, Volume VIII: Graphic Arts-Rotogravure and Flexography |  | X
Large Appliance Coating | EPA-450/2-77-034—Control of Volatile Organic Emissions from Existing Stationary Sources, Volume V: Surface Coating of Large Appliances | X |
Large Appliance Coating | EPA-453/R-07-004—Control Techniques Guidelines for Large Appliance Coatings |  | X
Magnetic Wire Coating | EPA-450/2-77-033—Control of Volatile Organic Emissions from Existing Stationary Sources, Volume IV: Surface Coating for Insulation of Magnetic Wire | X |
Metal Coil Coating | EPA-450/2-77-008—Control of Volatile Organic Emissions from Existing Stationary Sources, Volume II: Surface Coating of Cans, Coils, Paper, Fabrics, Automobiles, and Light-Duty Trucks | X |
Natural Gas/Gasoline Processing | EPA-450/2-83-007—Control of Volatile Organic Compound Equipment Leaks from Natural Gas/Gasoline Processing Plants | X |
Paper and Fabric Coating | EPA-450/2-77-008—Control of Volatile Organic Emissions from Existing Stationary Sources, Volume II: Surface Coating of Cans, Coils, Paper, Fabrics, Automobiles, and Light-Duty Trucks | X |
Resin Manufacturing (High-Density Polyethylene, Polypropylene, and Polystyrene) | EPA-450/3-83-008—Control of Volatile Organic Compound Emissions from Manufacture of High-Density Polyethylene, Polypropylene, and Polystyrene Resins | X |
Refineries | EPA-450/2-77-025—Control of Refinery Vacuum Producing Systems, Wastewater Separators and Process Unit Turnarounds | X |
| EPA-450/2-78-036—Control of Volatile Organic Compound Leaks from Petroleum Refinery Equipment | X |
Rubber Tire Manufacturing | EPA-450/2-78-030—Control of Volatile Organic Emissions from Manufacture of Pneumatic Rubber Tires | X |
Ship Coating | 61 FR 44050—Control Techniques Guidelines for Shipbuilding and Ship Repair Operations (Surface Coating) | X |
Wood Coating (Flat Wood Paneling) | EPA-450/2-78-032—Control of Volatile Organic Emissions from Existing Stationary Sources, Volume VII: Factory Surface Coating of Flat Wood Paneling | X |
Flat Wood Paneling Coatings | EPA-453/R06-004—Control Techniques Guidelines for Flat Wood Paneling Coatings |  | X
Paper, Film and Foil | EPA-453/R-07-004—Control Techniques Guidelines for Paper, Film, and Foil Coatings |  | X

* * * * *

4. Section 52.237 is amended by adding paragraph (b) to read as follows:

§ 52.237 Part D disapproval.

* * * * *

(b) The following Reasonably Available Control Technology (RACT) determinations are disapproved because they do not meet the requirements of Part D of the Clean Air Act.

(1) Sacramento Air Quality Management District.

(i) RACT Determinations for the Pharmaceutical Products Manufacturing Source Category and the Kiefer Landfill (volatile organic compounds only), in the submittal titled “Reasonably Available Control Technology (RACT) as Applicable to the 8-Hour Ozone Standard,” dated October 26, 2006, as adopted on October 26, 2006 and submitted on July 11, 2007.

(ii) [Reserved]

(2) [Reserved]

[FR Doc. 2016-18900 Filed 8-11-16; 8:45 am]

BILLING CODE 6560-50-P